AGENCY FOR INTERNATIONAL DEVELOPMENT

Information Collection Renewal; Contract With an Individual for Personal Services

AGENCY: Bureau for Management, Office of Acquisition and Assistance, Policy Division, United States Agency for International Development (USAID).

ACTION: Notice of request for public comment.

SUMMARY: The U.S. Agency for International Development (USAID) seeks Office of Management and Budget (OMB) approval for the information collection described below. In accordance with the Paperwork Reduction Act of 1995, USAID requests public comment on this collection from all interested individuals and organizations. This proposed information collection was published in the Federal Register on March 24, 2020, allowing for a 60-day public comment period. No comments were received regarding the Federal Register Notice. The purpose of this notice is to allow an additional 30 days for public comment.

DATES: Comments must be received no later than July 30, 2020.

ADDRESSES: Interested persons are invited to submit comments regarding the proposed information collection to Francisco Escobar, USAID, M Bureau, Office of Acquisition and Assistance, Policy Division at policytracking@usaid.gov.

Francisco Escobar, (202) 916-2614, policytracking@usaid.gov, Bureau for Management, Office of Acquisition and Assistance—Policy Division, U.S. Agency for International Development.

SUPPLEMENTARY INFORMATION:

OMB No: 0412-0602.

Form: AID 309-1.

Title: Contract with an Individual for Personal Services.

Type of Review: A Renewal Information Collection.

Annual Reporting Burden:

U.S. Respondents: 550.

Total annual U.S. responses: 550.

Total annual hours requested: 137.50 hours.

Marcelle Wijesinghe,
Division Chief, M/OAA/Policy, USAID.

[FR Doc. 2020-13922 Filed 6-29-20; 8:45 am]

BILLING CODE 6116-02-P